DEPARTMENT OF ENERGY

Federal Energy Regulatory Commission

[Docket No. ER01-3001-000]

New York Independent System Operator, Inc.; Notice Establishing Comment Date To Respond to Motion Requesting Extension of Time

On November 9, 2012, New York Independent System Operator, Inc. (NYISO) filed a motion requesting a 2-month extension of time (motion), until February 15, 2013, to submit its annual Installed Capacity Demand Curve Report. The report would otherwise be due December 20, 2012. NYISO indicates that it needs more time for data gathering and analyses for this report, now that it has completed the analyses for the related mitigation retests. NYISO states that no Party will be harmed by the delay.

Notice is hereby given that NYISO has filed a motion requesting an extension of time to submit its annual report until February 15, 2013. Any Party wishing to respond to the motion may file an answer within 21 days from the date of the motion, or November 30, 2012.

Dated: November 16, 2012.
Nathaniel J. Davis, Sr.,
Deputy Secretary.

[FR Doc. 2012-28400 Filed 11-21-12; 8:45 am]

BILLING CODE 6717-01-P